DEPARTMENT OF THE TREASURY

Submission for OMB Review; Comment Request

June 22, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 2, 2004 to be assured of consideration.

Internal Revenue Service (IRS)

OMB Number: 1545-1622.

Form Number: IRS Form 8866.

Type of Review: Revision.

Title: Interest Computation under the Look-Back Method for Property Depreciated Under the Income Forecast Method.

Description: Taxpayers depreciating property under the income forecast method and placed in service after September 13, 1995, must use Form 8866 to compute and report interest due or to be refunded under Internal Revenue Code (IRC) 167(g)(2). The IRS uses Form 8866 to determine if the interest has been figured correctly.

Respondents: Individuals or households, Business or other for-profit.

Estimated Number of Respondents/Recordkeepers: 5,000.

Estimated Burden Hours Respondent/Recordkeeper:

Recordkeeping—10 hrs., 45 min.

Learning about the law or the form—1 hr., 12 min.

Preparing, copying, assembling, and sending the form to the IRS—1 hr., 25 min.

Frequency of Response: Annually.

Estimated Total Reporting/Recordkeeping Burden: 66,850 hours.

OMB Number: 1545-1882.

Announcement Number: Announcement 2004-38.

Type of Review: Extension.

Title: Election of Alternative Deficit Reduction Contribution.

Description: This announcement describes the election that must be made in order for certain employers to take advantage of the alternative deficit reduction contribution in section 102 of H.R. 3108.

Respondents: Business or other for-profit, Individuals or households.

Estimated Number of Respondents/Recordkeepers: 200.

Estimated Burden Hours Respondent/Recordkeeper: 4 hours.

Frequency of response: Annually.

Estimated Total Reporting/Recordkeeping Burden: 800 hours.

Clearance Officer: Glenn P. Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-14972 Filed 6-30-04; 8:45 am]

BILLING CODE 4830-01-P